DEPARTMENT OF ENERGY

Federal Energy Regulatory Commission

[Project No. 11841-002—Alaska]

Energy Northwest; Notice of Site Visit

September 15, 2004.

Ketchikan Public Utility (KPU), applicant for the proposed Whitman Lake Hydroelectric Project (FERC No. 11841-002), will be hosting a site visit for the proposed project on November 4, 2004. The site visit is being conducted to provide all parties interested in the proposed project's licensing, an opportunity to view the location of existing project facilities and surrounding area and the proposed locations of project facilities to be constructed. Commission staff will be attending the site visit.

The Commission encourages all interested parties to participate. Details of the site visit follow:

Date and Time: November 4, 2004 at 11 a.m.

Location: Ketchikan Public Utilities Offices, 2930 Tongass Avenue, Ketchikan, AK 99901.

Due to the remote location of the reservoir, some hiking will be involved. Please dress accordingly. For further information or directions please contact Jennifer Soderstrom of KPU at (907) 225-1000.

Linda Mitry,
Acting Secretary.

[FR Doc. E4-2298 Filed 9-21-04; 8:45 am]

BILLING CODE 6717-01-P